DEPARTMENT OF HOUSING AND URBAN DEVELOPMENT

[Docket No. FR-5396-N-02]

Notice of Web Availability: Notice of Fiscal Year (FY) 2010 Opportunity To Register and Other Important Information for Electronic Application Submission for the Sustainable Communities Planning Grant Program

AGENCY: Office of Sustainable Housing and Communities, HUD.

ACTION: Notice.

SUMMARY: Through this notice, HUD announces the availability on its Web site of its Notice of FY2010 Opportunity to Register and Other Important Information for Electronic Application Submission for the Sustainable Communities Planning Grant Program (Registration Notice). The Registration Notice provides important information to assist applicants for Sustainable Communities Planning Grants to better understand the registration and electronic submission process for HUD applications made available through Grants.gov. To submit an application via Grants.gov, new users are required to complete a five-step registration process, which can take 2 to 4 weeks to complete. HUD's Registration Notice explains each step so that applicants can be prepared to submit an application once HUD publishes its Sustainable Communities Planning Grant Notice of Funding Availability (NOFA). The Registration Notice also requests that potential applicants notify HUD of their intent to submit an application no later than May 14, 2010. HUD is requesting this information to better assess the workload anticipated during the review process and plan accordingly. Finally, the Registration Notice announces that HUD received over 900 comments on its February 10, 2010, (75 FR 6689) Sustainable Communities Planning Grant Program Advance Notice and Request for Comments, and that it, along with its federal partner agencies, is currently reviewing and analyzing the comments. As a result, HUD announces that the publication of the Sustainable Communities Planning Grant NOFA, originally scheduled for April 10, 2010, is not expected to occur before May 2010.

The Registration Notice providing this information is available on the HUD Web site at http://www.hud.gov/offices/adm/grants/fundsavail.cfm.

FOR FURTHER INFORMATION CONTACT: Questions regarding the Registration Notice should be directed to Office of Sustainable Housing and Communities at 202-402-6045 or by email at sustainablecommunities@hud.gov. Persons with hearing or speech impairments may access these numbers via TTY by calling the Federal Information Relay Service at 800-877-8339. The NOFA Information Center is open between the hours of 10 a.m. and 6:30 p.m. eastern time, Monday through Friday, except federal holidays.

Dated: April 7, 2010.
Shelley Poticha,
Director, Office of Sustainable Housing and Communities.

[FR Doc. 2010-8432 Filed 4-13-10; 8:45 am]

BILLING CODE 4210-67-P